DEPARTMENT OF AGRICULTURE

Forest Service

Lynn Canal-Icy Strait Resource Advisory Committee

AGENCY: Forest Service, USDA.

ACTION: Notice of Meeting.

SUMMARY: The Lynn Canal-Icy Strait Resource Advisory Committee (RAC) will meet by teleconference call. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://cloudapps-usda-gov.secure.force.com/FSSRS/RAC_Page?id=001t0000002JcwQAAS.

DATES: The meeting will be held on Wednesday, October 23, 2019, at 1:00 p.m. via teleconference call. All RAC meetings are subject to cancellation. For anyone who would like to attend via teleconference call, please visit the website listed above or contact Robin Hasselquist, RAC Coordinator, by phone at 907-789-6212 or via email at robin.hasselquist@usda.gov.

For the status of the meeting prior to attendance, please contact Robin Hasselquist, RAC Coordinator, by phone at 907-789-6212 or via email at robin.hasselquist@usda.gov.

Written comments may be submitted as described under Supplementary Information. All comments, including names and addresses when provided, are placed in the record and are available for public inspection and copying. The public may inspect comments received at the Admiralty Island National Monument Ranger District. Please call ahead at 907-789-6212 to facilitate entry into the building.

FOR FURTHER INFORMATION CONTACT: Robin Hasselquist, RAC Coordinator, by phone at 907-789-6212 or via email at robin.hasselquist@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Approve previous minutes;

(2) Summarize approved, funded and completed projects since last meeting;

(3) Summarize approved projects that were not funded but can move forward with current funding;

(4) Discuss and agree on a chairperson and vice-chairperson; and

(5) Potentially discuss new projects for future consideration, once project submission forms are completed and funding is available.

The meeting is open to the public. The agenda will include time for people to make oral statement of three minutes or less. Individuals wishing to make an oral statement should request in writing by Wednesday, October 16, 2019, to be scheduled on the agenda. Anyone who would like to bring related matters to the attention of the committee may file written statements with the committee staff before or after the meeting. Written comments and requests for time for oral comments must be sent to Robin Hasselquist, RAC Coordinator, 8510 Mendenhall Loop Road, Juneau, Alaska 99801; by email to robin.hasselquist@usda.gov, or via facsimile 907-586-8808.

Meeting Accommodations: If you are a person requiring reasonable accommodation, please make requests in advance for sign language interpreting, assistive listening devices, or other reasonable accommodation. For access to the facility or proceedings, please contact Robin Hasselquist, RAC Coordinator, 8510 Mendenhall Loop Road, Juneau, Alaska 99801; by email to robin.hasselquist@usda.gov, or via facsimile 907-586-8808. All reasonable accommodation requests are managed on a case by case basis.

Dated: September 5, 2019.
Cikena Reid,
USDA Committee Management Officer.

[FR Doc. 2019-20537 Filed 9-20-19; 8:45 am]

BILLING CODE 3411-15-P